DEPARTMENT OF COMMERCE

National Oceanic and Atmospheric Administration

50 CFR Part 300

[220325-0079]

RIN 0648-BL14

Pacific Halibut Fisheries; Catch Sharing Plan

AGENCY: National Marine Fisheries Service (NMFS), National Oceanic and Atmospheric Administration (NOAA), Commerce.

ACTION: Final rule.

SUMMARY: This final rule approves changes to the Pacific Halibut Catch Sharing Plan for the International Pacific Halibut Commission's regulatory Area 2A off of Washington, Oregon, and California. In addition, this final rule implements management measures governing the 2022 recreational fisheries that are not implemented through the International Pacific Halibut Commission. These measures include the recreational fishery seasons, quotas, and management measures for Area 2A. These actions are intended to conserve Pacific halibut and provide angler opportunity where available.

DATES: This rule is effective on March 31, 2022.

ADDRESSES: Additional information regarding this action may be obtained by contacting the Sustainable Fisheries Division, NMFS West Coast Region, 1201 NE Lloyd Boulevard Suite 1100, Portland, OR, 97232. For information regarding all halibut fisheries and general regulations not contained in this rule, contact the International Pacific Halibut Commission, 2320 W. Commodore Way Suite 300, Seattle, WA 98199-1287.

FOR FURTHER INFORMATION CONTACT: Kathryn Blair, phone: 503-231-6858, fax: 503-231-6893, or email: kathryn.blair@noaa.gov.

SUPPLEMENTARY INFORMATION:

Background

The Northern Pacific Halibut Act of 1982 (Halibut Act), 16 U.S.C. 773-773k, gives the Secretary of Commerce (Secretary) responsibility for implementing the provisions of the Convention between Canada and the United States for the Preservation of the Halibut Fishery of the North Pacific Ocean and Bering Sea (Halibut Convention), signed at Ottawa, Ontario, on March 2, 1953, as amended by a Protocol Amending the Convention (signed at Washington, DC, on March 29, 1979). The Halibut Act requires that the Secretary adopt regulations to carry out the purposes and objectives of the Halibut Convention and Halibut Act (16 U.S.C. 773c). Additionally, as provided in the Halibut Act, the Regional Fishery Management Councils having authority for the geographic area concerned may develop, and the Secretary of Commerce may implement, regulations governing harvesting privileges among U.S. fishermen in U.S. waters that are in addition to, and not in conflict with, approved International Pacific Halibut Commission (IPHC) regulations (16 U.S.C. 773c(c)).

At its annual meeting January 24-28, 2022, the IPHC recommended an Area 2A catch limit of 1,490,000 pounds (lb) (675.9 metric tons (mt)) for 2022. This catch limit is derived from the total constant exploitation yield (TCEY) of 1,650,000 lb (748.4 mt) for Pacific halibut, which includes commercial discards and bycatch estimates calculated using a formula developed by the IPHC. The Area 2A catch limit and commercial fishery allocations are adopted by the IPHC and were published in the Federal Register on March 7, 2022 (87 FR 12604) after acceptance by the Secretary of State, with concurrence from the Secretary of Commerce, in accordance with 50 CFR 300.62. Additionally, the March 7, 2022 (87 FR 12604) final rule contains annual domestic management measures and IPHC regulations that are published each year under NMFS' authority to implement the Halibut Convention (50 CFR 300.62).

Since 1988, the Pacific Fishery Management Council (Council) has developed and NMFS has approved annual Catch Sharing Plans that allocate the IPHC regulatory Area 2A Pacific halibut catch limit between treaty Indian and non-Indian harvesters, and among non-Indian commercial and recreational (sport) fisheries. In 1995, the Council recommended, and NMFS approved a long-term Area 2A Catch Sharing Plan (60 FR 14651; March 20, 1995). NMFS has been approving adjustments to the Area 2A Catch Sharing Plan based on Council recommendations each year to address the changing needs of these fisheries. While the full Catch Sharing Plan is not published in the Federal Register, it is made available on the Council and NMFS websites.

This rule approves the Council's recommended changes to the Catch Sharing Plan for IPHC regulatory Area 2A. The 2022 Catch Sharing Plan was developed through the Council's public process. This rule implements recreational Pacific halibut fishery management measures for 2022, which include season opening and closing dates. Further details of the changes made for the 2022 Catch Sharing Plan are described in the proposed rule (87 FR 9021; February 17, 2022) and are not repeated here.

As described above, NMFS is adopting recreational fishery management measures, including season dates for the 2022 fishery. The Catch Sharing Plan includes a framework for setting days open for fishing by subarea; under this framework, each state submits final recommended season dates annually to NMFS during the proposed rule comment period. This final rule contains dates for the recreational fisheries (though referred to as “sport” in IPHC documents, “recreational” will be used in this rule) based on the 2022 Catch Sharing Plan as recommended by the Council and the recommended dates submitted by the states during public comment on the proposed rule.

2022 Recreational Fishery Management Measures

NMFS is implementing the following Area 2A recreational fishery management measures consistent with the Council's Catch Sharing Plan. If there is any discrepancy between the Catch Sharing Plan and Federal regulations, Federal regulations take precedence. The recreational fishing subareas, quotas, fishing dates, and daily bag limits are as follows. These may be modified through inseason actions consistent with 50 CFR 300.63(c). All recreational fishing in Area 2A is managed on a “port of landing” basis, whereby any halibut landed into a port counts toward the quota for the area in which that port is located, and the regulations governing the area of landing apply, regardless of the specific area of catch.

Washington Puget Sound and the U.S. Convention Waters in the Strait of Juan de Fuca

The quota for the area in Puget Sound and the U.S. waters in the Strait of Juan de Fuca, east of a line extending from 48°17.30′ N lat., 124°23.70′ W long. north to 48°24.10′ N lat., 124°23.70′ W long., is 83,210 lb (37.74 mt).

(a) For the area in Puget Sound and the U.S. waters in the Strait of Juan de Fuca, east of a line at approximately 123°49.60′ W long., fishing is open April 7-9, 14-16, 21-23, 28-30; May 5-7, 12-14, 19-21, 27-29; June 2-4, 9-11, 16-18, 23-25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(b) For the area in U.S. waters in the Strait of Juan de Fuca, approximately between 124°23.70′ W long. and 123°49.60′ W long., fishing is open May 5, 7, 12, 14, 19, 21, 27-29; June 2-4, 9-11, 16-18, 23-25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(c) The daily bag limit is one halibut of any size per day per person.

Washington North Coast Subarea

The quota for landings into ports in the area off the north Washington coast, west of a line at approximately 124°23.70′ W long. and north of the Queets River (47°31.70′ N lat.), is 133,847 lb (60.71 mt).

(a) Fishing is open May 5, 7, 12, 14, 19, 21, 27, and 29; June 2, 4, 9, 11, 16, 18, 23, 25, and 30. If unharvested quota remains after June 30, NMFS may take inseason action to reopen the fishery August 18 through September 30, up to five days per week, on Thursday, Friday, Saturday, Sunday, and Monday of each week, or until there is not sufficient quota for another full day of fishing and the area is therefore closed. Any closure will be announced in accordance with Federal regulations at 50 CFR 300.63(c) and on the NMFS hotline at (206) 526-6667 or (800) 662-9825.

(b) The daily bag limit is one halibut of any size per day per person.

(c) Recreational fishing for groundfish and halibut is prohibited within the North Coast Recreational Yelloweye Rockfish Conservation Area (YRCA). It is unlawful for recreational fishing vessels to take and retain, possess, or land halibut taken with recreational gear within the North Coast Recreational YRCA. A vessel fishing with recreational gear in the North Coast Recreational YRCA may not be in possession of any halibut. Recreational vessels may transit through the North Coast Recreational YRCA with or without halibut on board. The North Coast Recreational YRCA is defined in groundfish regulations at 50 CFR 660.70(b).

Washington South Coast Subarea

The quota for landings into ports in the area between the Queets River, WA (47°31.70′ N lat.), and Leadbetter Point, WA (46°38.17′ N lat.), is 68,555 lb (31.10 mt).

(a) This subarea is divided between the all-depth fishery (the Washington South coast primary fishery), and the incidental nearshore fishery in the area from 47°31.70′ N lat. south to 46°58.00′ N lat. and east of a boundary line approximating the 30-fm (55-m) depth contour. This area (the Washington South coast northern nearshore area) is defined by straight lines connecting all of the following points in the order stated as described by the following coordinates:

(1) 47°31.70′ N lat, 124°37.03′ W long;

(2) 47°25.67′ N lat, 124°34.79′ W long;

(3) 47°12.82′ N lat, 124°29.12′ W long;

(4) 46°58.00′ N lat, 124°24.24′ W long.

The primary fishery season dates are May 5, 8, 12, 15, 19, 22, and 26; June 16, 19, 23, and 26, or until there is not sufficient quota for another full day of fishing and the area is therefore closed. If unharvested quota remains after June 30, NMFS may take inseason action to reopen the fishery August 19 and/or September 23. Any closure will be announced on the NMFS hotline at (206) 526-6667 or (800) 662-9825. The fishing season in the Washington South Coast northern nearshore area commences the Saturday subsequent to the closure of the primary fishery in May or June if quota remains in the Washington South Coast subarea allocation, and continues seven days per week until 68,555 lb (31.10 mt) is projected to be taken by the two fisheries combined and the fishery is therefore closed or on September 30, whichever is earlier. If the fishery is closed prior to September 30, or there is insufficient quota remaining to reopen the Washington South coast, northern nearshore area for another fishing day, then any remaining quota may be transferred in-season to another Washington coastal subarea by NMFS, in accordance with Federal regulations at 50 CFR 300.63(c).

(b) The daily bag limit is one halibut of any size per day per person.

(c) Seaward of the boundary line approximating the 30-fm (55-m) depth contour and during days open to the primary fishery, lingcod may be taken, retained and possessed when allowed by groundfish regulations at 50 CFR 660.360(c).

(d) Recreational fishing for groundfish and halibut is allowed within the South Coast Recreational YRCA and Westport Offshore Recreational YRCA. The South Coast Recreational YRCA is defined at 50 CFR 660.70(e). The Westport Offshore Recreational YRCA is defined at 50 CFR 660.70(f).

Columbia River Subarea

The quota for landings into ports in the area between Leadbetter Point, WA (46°38.17′ N lat.), and Cape Falcon, OR (45°46.00′ N lat.), is 19,037 lb (8.64 mt).

(a) This subarea is divided into an all-depth fishery and a nearshore fishery. The nearshore fishery is allocated 500 lb (0.23 mt) of the subarea allocation. The nearshore fishery extends from Leadbetter Point (46°38.17′ N lat., 124°15.88′ W long.) to the Columbia River (46°16.00′ N lat., 124°15.88′ W long.) by connecting the following coordinates in Washington: 46°38.17′ N lat., 124°15.88′ W long. 46°16.00′ N lat., 124°15.88′ W long., and connecting to the boundary line approximating the 40-fm (73-m) depth contour in Oregon. The nearshore fishery opens May 9, and continues on Monday, Tuesday, and Wednesday each week until the nearshore allocation is taken, or on September 30, whichever is earlier. The all-depth fishery is open May 5, 8, 12, 15, 19, 22, and 26; June 2, 5, 9, 12, 16, 19, 23, 26, and 30, or until there is not sufficient quota for another full day of fishing and the area is therefore closed. If unharvested quota remains after June 30, NMFS may take inseason action to reopen the fishery on August 19 and/or September 23. Any closure will be announced on the NMFS hotline at (206) 526-6667 or (800) 662-9825. Subsequent to this closure, if there is insufficient quota remaining in the Columbia River subarea for another fishing day, then any remaining quota may be transferred inseason to another Washington and/or Oregon subarea by NMFS, in accordance with Federal regulations at 50 CFR 300.63(c). Any remaining quota would be transferred to each state in proportion to the allocation formula in the Catch Sharing Plan.

(b) The daily bag limit is one halibut of any size per day per person.

(c) Pacific Coast groundfish may not be taken and retained, possessed or landed when halibut are on board the vessel, except sablefish, Pacific cod, flatfish species, yellowtail rockfish, widow rockfish, canary rockfish, redstripe rockfish, greenstriped rockfish, silvergray rockfish, chilipepper, bocaccio, blue/deacon rockfish, and lingcod caught north of the Washington-Oregon border (46°16.00′ N lat.) may be retained when allowed by Pacific Coast groundfish regulations at 50 CFR 660.360, during days open to the all-depth Pacific halibut fishery. Long-leader gear (as defined at 50 CFR 660.351) may be used to retain groundfish during the all-depth Pacific halibut fishery south of the Washington-Oregon border, when allowed by Pacific Coast groundfish regulations at 50 CFR 660.360.

(d) Taking, retaining, possessing, or landing halibut on groundfish trips is allowed in the nearshore area on days not open to all-depth Pacific halibut fisheries.

Oregon Central Coast Subarea

The quota for landings into ports in the area off Oregon between Cape Falcon (45°46.00′ N lat.) and Humbug Mountain (42°40.50′ N lat.), is 269,782 lb (122.37 mt).

(a) The nearshore fishery opens on May 1, seven days per week, in the area shoreward of a boundary line approximating the 40-fm (73-m) depth contour, or until the sub-quota for the central Oregon nearshore fishery of 32,374 lb (14.68 mt), or any inseason revised quota is estimated to have been taken and the season is therefore closed, or on October 31, whichever is earlier. The boundary line approximating the 40-fm (73-m) depth contour between 45°46.00′ N lat. and 42°40.50′ N lat. is defined at 50 CFR 660.71(o).

(b) The spring all-depth fishery opens May 12, seven days per week, through June 30. In the event that there is remaining subarea allocation after June 30, the fishery will also be open July 7-9 and 21-23 or until there is not enough quota remaining for a full day of fishing and the fishery is therefore closed. The allocation to the all-depth fishery is 169,963 lb (77.09 mt).

(c) The summer all-depth fishery opens on August 4-6, 18-20; September 1-3, 15-17, September 29-October 1, 13-15, and 27-29; or until the combined spring season and summer season quotas in the area between Cape Falcon and Humbug Mountain, OR, are estimated to have been taken and the area is therefore closed. NMFS, in accordance with notice procedures in Federal regulations at 50 CFR 300.63(c)(3), will announce on the NMFS hotline (206) 526-6667 or (800) 662-9825 in July whether the fishery will re-open for the summer season in August. Additional fishing days may be opened if enough quota to allow for additional days of fishing remains after the last day of the first scheduled open period. If, after this date, an amount greater than or equal to 60,000 lb (27.2 mt) remains in the combined nearshore, spring, and summer quota, NMFS may take inseason action to reopen the fishery every Thursday, Friday and Saturday, beginning August 4, 5, and 6, and/or the fishery may be open up to seven days a week beginning September 1, ending when there is insufficient quota remaining or October 31, whichever is earlier. If after September 6 an amount greater than or equal to 30,000 lb (13.6 mt) remains in the combined nearshore, spring, and summer quota, and the fishery is not already open every Thursday, Friday and Saturday, NMFS may take inseason action to re-open the fishery every Thursday, Friday and Saturday, beginning September 8, 9, and 10, through October 31, until there is not sufficient quota for another full day of fishing and the area is closed. At the conclusion of the spring all-depth season, NMFS may increase the bag limit to two fish of any size per person, per day. NMFS, in accordance with notice procedures at 50 CFR 300.63(c)(3), will announce on the NMFS hotline (206) 526-6667 or (800) 662-9825 whether the summer all-depth fishery will be open on such additional fishing days, what days the fishery will be open, and what the bag limit is.

(d) The daily bag limit is one halibut of any size per day per person, unless otherwise specified through inseason action. NMFS, in accordance with notice procedures at 50 CFR 300.63(c)(3), will announce on the NMFS hotline (206) 526-6667 or (800) 662-9825 any bag limit changes.

(e) During days open to all-depth halibut fishing when the groundfish fishery is restricted by depth, when halibut are on board the vessel, no groundfish, except sablefish, Pacific cod, and other species of flatfish (sole, flounder, sanddab), may be taken and retained, possessed or landed, except with long-leader gear (as defined at § 660.351), when allowed by groundfish regulations. During days open to all-depth halibut fishing when the groundfish fishery is open to all depths, any groundfish species permitted under the groundfish regulations may be retained, possessed or landed if halibut are on board the vessel. During days only open to nearshore halibut fishing, flatfish species may not be taken and retained seaward of the 40-fm (73-m) depth contour if halibut are on board the vessel.

(f) When the all-depth halibut fishery is closed and halibut fishing is permitted only shoreward of a boundary line approximating the 40-fm (73-m) depth contour, halibut possession and retention by vessels operating seaward of a boundary line approximating the 40-fm (73-m) depth contour is prohibited.

(g) Recreational fishing for groundfish and halibut is prohibited within the Stonewall Bank YRCA. It is unlawful for recreational fishing vessels to take and retain, possess, or land halibut taken with recreational gear within the Stonewall Bank YRCA. A vessel fishing in the Stonewall Bank YRCA may not possess any halibut. Recreational vessels may transit through the Stonewall Bank YRCA with or without halibut on board. The Stonewall Bank YRCA is defined at 50 CFR 660.70(g)-(i).

Southern Oregon Subarea

The quota for landings into ports in the area south of Humbug Mountain, OR (42°40.50′ N lat.) to the Oregon/California Border (42°00.00′ N lat.) is 8,000 lb (3.63 mt).

(a) The fishery opens May 1, seven days per week, until the quota is taken or October 31, whichever is earlier.

(b) The daily bag limit is one halibut per person with no size limit, unless otherwise specified through inseason action. NMFS, in accordance with notice procedures at 50 CFR 300.63(c)(3), will announce on the NMFS hotline (206) 526-6667 or (800) 662-9825 any bag limit changes.

(c) During days open to the Pacific halibut fishery, when halibut are on board the vessel, no groundfish except sablefish, Pacific cod, and other species of flatfish (sole, flounder, sanddab), may be taken and retained, possessed or landed, except with long-leader gear (as defined at § 660.351) when allowed by groundfish regulations at 50 CFR 660.360.

California Coast Subarea

The quota for landings into ports south of the Oregon/California Border (42°00.00′ N lat.) and along the California coast is 38,740 lb (17.57 mt).

(a) The fishery opens May 1 through November 15, or until the subarea quota is estimated to have been taken and the season is therefore closed, whichever is earlier. NMFS, in accordance with notice procedures at § 300.63(c)(3), will announce any closure on the NMFS hotline (206) 526-6667 or (800) 662-9825.

(b) The daily bag limit is one halibut of any size per day per person.

Comments and Responses

NMFS published the proposed rule on February 17, 2022 (87 FR 9021). NMFS accepted public comments on the Council's recommended modifications to the 2022 Area 2A Catch Sharing Plan and the proposed 2022 annual management measures through March 4, 2022. NMFS received two comments from state agencies—the Oregon Department of Fish and Wildlife (ODFW) and the California Department of Fish and Wildlife (CDFW)—and one comment from a member of the public.

Comment 1: ODFW submitted a comment recommending final recreational fishing season dates for the 2022 season for the Central Oregon Coast subarea. ODFW hosted a public meeting and an online survey following the IPHC annual meeting. Based on stakeholder input, past fishing effort and harvest rates, and the risk of exceeding the combined spring and summer allocations, ODFW recommended season dates for the spring and summer Central Oregon Coast fisheries. For spring, ODFW recommended open dates of May 12 through June 30, seven days per week. In the event that there is remaining subarea allocation following the initial open dates, ODFW recommended the spring fishery open on July 7, 8, 9 and July 21, 22, and 23. ODFW recommended summer fishery dates on August 4, 5, 6; August 18, 19, 20; September 1, 2, 3; September 15, 16, 17; September 29, 30, October 1; October 13, 14, 15; and October 27, 28, 29; or until the total 2022 all-depth catch limit for the subarea is taken.

Response: NMFS concurs that the ODFW-recommended season dates are appropriate. There are a few differences between the spring and summer season dates NMFS published in the proposed rule and those recommended by ODFW. However, based on the rationale provided by ODFW, NMFS has modified the recreational fishery season dates off of Oregon to those recommended by ODFW in this final rule.

Comment 2: CDFW submitted a comment concurring with the season dates for the fisheries off of California that NMFS published in the proposed rule for the 2022 season. CDFW hosted an online survey following the IPHC annual meeting. Based on public comments received on Pacific halibut fisheries in California and fishing performance in recent years, CDFW recommended season dates of May 1-November 15, or until quota has been attained, whichever comes first.

Response: NMFS concurs that these season dates are appropriate and affirms the recreational fishery season dates off of California in this final rule.

Comment 3: NMFS received one public comment discussing the daily bag limit in California.

Response: Area 2A fisheries are managed by allocating quota catch limit to each sector and subarea, and managing to an Area 2A catch limit that is set by the IPHC at a level that represents a relatively conservative level of harvest, and is consistent with its conservation objectives for the halibut stock. In addition, two out of the last three years, the quota for the California recreational fishery was not fully attained. Therefore, NMFS has determined the recreational bag limit in California is appropriate.

Changes From the Proposed Rule

As described in the response to Comment 1 above, NMFS changed season dates off of Oregon in this final rule.

Classification

Regulations governing the U.S. fisheries for Pacific halibut are developed by the IPHC, the Pacific Fishery Management Council, the North Pacific Fishery Management Council, the Secretary of State and the Secretary of Commerce. Additionally, as provided in the Halibut Act, the Regional Fishery Management Councils having authority for the geographic area concerned may develop, and the Secretary of Commerce may implement, regulations governing harvesting privileges among U.S. fishermen in U.S. waters that are in addition to, and not in conflict with, approved IPHC regulations (16 U.S.C. 773c(c)). The final rule is consistent with the Council's authority to allocate halibut catches among fishery participants in the waters in and off Washington, Oregon, and California.

NMFS prepared an EA for Area 2A Pacific halibut fishery management, and the Assistant Administrator concluded that there will be no significant impacts on the human environment as a result of this rule. The proposed rule (87 FR 9021; February 17, 2022) described where the draft EA could be viewed and how to comment. The public comment period closed March 4, 2022. There were no comments received on the draft EA, and therefore there were no changes or updates resulting from the public comment period. A copy of the Final EA and associated Finding of No Significant Impact are available on NMFS' website at https://www.fisheries.noaa.gov/west-coast/laws-and-policies/pacific-halibut-actions-nepa-documents.

This final rule has been determined to be not significant for purposes of Executive Order 12866.

NMFS finds good cause to waive the 30-day delay in the date of effectiveness and make this rule effective on March 31, 2022, in time for the start of recreational Pacific halibut fisheries on April 7, 2022, pursuant to 5 U.S.C. 553(d)(3). The 2022 Catch Sharing Plan provides the framework for the annual management measures and setting subarea allocations based on annual catch limits set by the IPHC. This rule implements 2022 Area 2A subarea allocations as published in the proposed rule (87 FR 9021; February 17, 2022) for the recreational Pacific halibut fishery based on the formulas set in the Catch Sharing Plan and using the 2022 Area 2A catch limit for Pacific halibut set by the IPHC and published by NMFS on March 7, 2022 (87 FR 12604).

Additionally, delaying the effective date of this rule would be contrary to the public interest. The Council's 2022 Catch Sharing Plan approved in this rule includes changes that respond to the needs of the fisheries in each state, including fisheries that begin in early April. The Catch Sharing Plan and management measures were developed through multiple public meetings of the Council, and were described at the IPHC meeting where public comment was accepted. A delay in the effectiveness of this rule for 30 days would result in the fisheries not opening on their intended timelines and on the dates the affected public are expecting. The recreational Pacific halibut fisheries have high participation, and some subareas close months before the end of the season due to subarea allocation attainment. If the fisheries do not open on their intended timelines, fishing opportunity is lost, potentially causing economic harm to communities at recreational fishing ports.

Therefore, a delay in effectiveness could cause economic harm to the associated fishing communities by reducing fishing opportunity at the start of the fishing year. As a result of the potential harm to fishing communities that could be caused by delaying the effectiveness of this final rule, NMFS finds good cause to waive the 30-day delay in the date of effectiveness and make this rule effective upon publication in the Federal Register.

The Chief Counsel for Regulation of the Department of Commerce certified to the Chief Counsel for Advocacy of the Small Business Administration during the proposed rule stage that this action would not have a significant economic impact on a substantial number of small entities for purposes of the Regulatory Flexibility Act. The factual basis for the certification was published in the proposed rule and is not repeated here. As a result, a regulatory flexibility analysis was not required and none was prepared.

This final rule contains no information collection requirements under the Paperwork Reduction Act of 1995.

List of Subjects in 50 CFR Part 300

Administrative practice and procedure, Antarctica, Canada, Exports, Fish, Fisheries, Fishing, Imports, Indians, Labeling, Marine resources, Reporting and recordkeeping requirements, Russian Federation, Transportation, Treaties, Wildlife.

Dated: March 28, 2022.
Samuel D. Rauch, III,
Deputy Assistant Administrator for Regulatory Programs, National Marine Fisheries Service.

For the reasons set out in the preamble, 50 CFR part 300, subpart E, is amended as follows:

PART 300—INTERNATIONAL FISHERIES REGULATIONS

Subpart E—Pacific Halibut Fisheries

1. The authority citation for part 300, subpart E, continues to read as follows:

Authority: 16 U.S.C. 773-773k.

2. In § 300.63, revise paragraph (c)(1)(iii) to read as follows:

§ 300.63 Catch sharing plan and domestic management measures in Area 2A.

* * * * *

(c) * * *

(1) * * *

(iii) If any of the recreational fishery subareas north of Cape Falcon, Oregon are not projected to utilize their respective quotas, NMFS may take inseason action to transfer any projected unused quota to another Washington recreational subarea.

* * * * *

[FR Doc. 2022-06834 Filed 3-31-22; 8:45 am]

BILLING CODE 3510-22-P